DEPARTMENT OF TRANSPORTATION

Federal Aviation Administration

Proposed Technical Standard Order (TSO)—C159, Avionics Supporting Next Generation Satellite Systems (NGSS)

AGENCY: Federal Aviation Administration, DOT.

ACTION: Notice of availability and requests for public comment.

SUMMARY: This notice announces the availability of and requests comments on a proposed Technical Standard Order (TSO) C-159, Avionics Supporting Next Generation Satellite Systems (NGSS). This proposed TSO tells persons seeking a TSO authorization or letter of design approval what minimum performance standards (MPS) their Next Generation Satellite Systems (NGSS) must meet to be identified with the applicable TSO marking.

DATES: Comments must be received on or before July 23, 2004.

ADDRESSES: Send all comments on the proposed technical standard order to: Federal Aviation Administration (FAA), Aircraft Certification Service, Aircraft Engineering Division, Avionic Systems Branch, AIR-130, 800 Independence Avenue, SW, Washington, DC 20591. ATTN: Ms. Dara Gibson. Or deliver comments to: Federal Aviation Administration, Room 815, 800 Independence Avenue, SW, Washington, DC 20591.

FOR FURTHER INFORMATION CONTACT: Ms. Dara Gibson, AIR-130, Room 815 Federal Aviation Administration, Aircraft Certification Service, Aircraft Engineering Division, 800 Independence Avenue, SW, Washington, DC 20591. Telephone (202) 385-4632, FAX: (202) 385-4651. Or, via e-mail at: dara.gibson@faa.gov.

SUPPLEMENTARY INFORMATION:

Comments Invited

Interested persons are invited to comment on the proposed TSO listed in this notice by submitting such written data, views, or arguments as they desire to the above specified address. Comments received on the proposed TSO may be examined, before and after the comment closing date, in Room 815, FAA Headquarters Building, 800 Independence Avenue, SW, Washington, DC 20591, weekdays except Federal holidays, between 8:30 a.m. and 4:30 p.m. All communications received on or before the closing date will be considered by the Director of the Aircraft Certification Service before issuing the final TSO.

Background

This proposed TSO applies to avionics supporting Next Generation Satellite Systems (NGSS) that provide Aeronautical Mobile Satellite (R) Services. Note that the capability of the NGSS includes the support of both data and voice communications between aircraft and ground-based users. To accomplish this task, the MPS contained in the proposed TSO-C159 will assist manufacturers of NGSS equipment in their compliance with the applicable requirements of RTCA Document Number (RTCA/DO) 262, Minimum Operational Performance Standards (MOPS) for Avionics Supporting Next Generation Satellite Systems, dated December 14, 2000.

How To Obtain Copies

You may get a copy of the proposed TSO from the Internet at: http://av-info.faa.gov/tso/Tsopro/Proposed.htm. See section entitled FOR FURTHER INFORMATION CONTACT for the complete address if requesting a copy by mail. You may inspect the RTCA document at the FAA office location listed under ADDRESSES. Note however, RTCA documents are copyrighted and may not be reproduced without the written consent of RTCA, Inc. You may purchase copies of RTCA, Inc. documents from: RTCA, Inc., 1828 L Street, NW., Suite 815, Washington, DC 20036, or directly from their Web site: http://www.rtca.org/.

Issued in Washington, DC, on June 16, 2004.
Susan J. M. Cabler,
Assistant Manager, Aircraft Engineering Division, Aircraft Certification Service.

[FR Doc. 04-14207 Filed 6-22-04; 8:45 am]

BILLING CODE 4910-13-M